FEDERAL MINE SAFETY AND HEALTH REVIEW COMMISSION

Sunshine Act Notice

March 2015

TIME AND DATE: 10 a.m., Tuesday, April 14, 2015.

PLACE: The Richard V. Backley Hearing Room, Room 511N, 1331 Pennsylvania Avenue NW., Washington, DC 20004 (enter from F Street entrance).

STATUS: Open.

MATTERS TO BE CONSIDERED: The Commission will hear oral argument in the matter Brody Mining, LLC v. Secretary of Labor, Docket Nos. WEVA 2014-82-R et al. (Issues include whether the Administrative Law Judge had jurisdiction to adjudicate the validity of a Pattern of Violations notice and whether he erred in dismissing the notice.)

Any person attending this oral argument who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-07748 Filed 4-1-15; 11:15 am]

BILLING CODE 6735-01-P